DEPARTMENT OF THE INTERIOR

National Park Service

[NPS-WASO-NAGPRA-23139; PPWOCRADN0-PCU00RP14.R50000]

Notice of Inventory Completion: Peabody Museum of Natural History, Yale University, New Haven, CT

AGENCY: National Park Service, Interior.

ACTION: Notice.

SUMMARY: The Peabody Museum of Natural History has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Peabody Museum of Natural History. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Peabody Museum of Natural History at the address in this notice by June 2, 2017.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains under the control of the Peabody Museum of Natural History, Yale University, New Haven, CT. The human remains were removed from multiple sites in the State of North Dakota.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Peabody Museum of Natural History professional staff in consultation with a representative of the Three Affiliated Tribes of the Fort Berthold Reservation, North Dakota (hereafter the “Three Affiliated Tribes”).

History and Description of the Remains

In 1904, human remains representing, at minimum, one individual were removed from the On-A-Slant Village site (32-Mo-0026) in Morton County, ND, by a private individual. In 1915, the human remains were donated to the Peabody Museum of Natural History. The human remains represent one adult, probably male. No known individual was identified. No associated funerary objects are present.

Between 1903 and 1906, human remains representing, at minimum, one individual were removed from the Scattered Village site (32-Mo-0031) in Morton County, ND, by a private individual. In 1915, the human remains were donated to the Peabody Museum. The human remains represent one subadult 12-15 years old, sex indeterminate. No known individual was identified. No associated funerary objects are present.

Located near the mouth of the Heart River, On-A-Slant Village is recognized as a late prehistoric and protohistoric earth lodge village of the Mandan whose descendants are today members of the Three Affiliated Tribes. Scattered Village was a large prehistoric and historic settlement located on the north side of the Heart River on the eastern side of the modern city of Mandan, ND. The inhabitants of Scattered Village have been identified as either Hidatsa or Mandan whose descendants are today members of the Three Affiliated Tribes.

Determinations Made by the Peabody Museum of Natural History

Officials of the Peabody Museum of Natural History have determined that:

• Pursuant to 25 U.S.C. 3001(9), the human remains described in this notice represent the physical remains of two individuals of Native American ancestry.

• Pursuant to 25 U.S.C. 3001(2), there is a relationship of shared group identity that can be reasonably traced between the Native American human remains and the Three Affiliated Tribes of the Fort Berthold Reservation, North Dakota.

Additional Requestors and Disposition

Lineal descendants or representatives of any Indian tribe or Native Hawaiian organization not identified in this notice that wish to request transfer of control of these human remains should submit a written request with information in support of the request to Professor David Skelly, Director, Yale Peabody Museum of Natural History, P.O. Box 208118, New Haven, CT 06520-8118, telephone (203) 432-3752, by June 2, 2017. After that date, if no additional requestors have come forward, transfer of control of the human remains to the Three Affiliated Tribes of the Fort Berthold Reservation, North Dakota may proceed.

The Peabody Museum of Natural History is responsible for notifying the Three Affiliated Tribes of the Fort Berthold Reservation, North Dakota that this notice has been published.

Dated: March 22, 2017.
Melanie O'Brien,
Manager, National NAGPRA Program.

[FR Doc. 2017-08875 Filed 5-2-17; 8:45 am]

BILLING CODE 4312-52-P